DEPARTMENT OF COMMERCE

Foreign-Trade Zones Board

[Docket 49-2002]

Foreign-Trade Zone 38—Spartanburg, SC; Application for Subzone Status SAI Automotive USA d/b/a/ Faurecia Interior Systems (Automotive Interior Components), Fountain Inn, South Carolina

An application has been submitted to the Foreign-Trade Zones Board (the Board) by the South Carolina State Ports Authority, grantee of FTZ 38, requesting special-purpose subzone status for the automotive interior components manufacturing plant of SAI Automotive USA d/b/a/ Faurecia Interior Systems (Faurecia IS) (a subsidiary of Faurecia S.A., of France), located in Fountain Inn, South Carolina. The application was submitted pursuant to the provisions of the Foreign-Trade Zones Act, as amended (19 U.S.C. 81a-81u), and the regulations of the Board (15 CFR Part 400). It was formally filed on October 18, 2002.

The Faurecia IS plant (35 acres, 326,000 sq.ft.), is located at 101 International Boulevard, Fountain Inn (Laurens County), South Carolina, about 20 miles southeast of Greenville. The facility (670 employees) is used to produce automotive interior components—storage boxes, consoles, glove boxes, instrument panels, dash boards, bolsters, and door panels—for passenger motor vehicles manufactured in the U.S., as well as for export. Production activity involves injection molding, blow molding, painting, and assembly using domestic and foreign-origin inputs. Components and materials purchased from abroad (representing up to 25% of material value) include: polypropylene, PVC foil and sheet, rubber straps and mats, carpet sets, floor mats, fasteners, speakers, switches, airbag straps/frames/brackets, retainers, inserts and related items under HTSUS 8708.99.8080, vents, knobs, air ducts, sun visors, consoles, grab handles, plates, fabrics (Category 229) and sun shades (duty rates: 2.5-8.5%). FTZ procedures would exempt Faurecia IS from Customs duty payments on the foreign items used in production for export to non-NAFTA countries. On domestic shipments transferred in-bond to U.S. automobile assembly plants with subzone status, no duties would be paid on foreign-origin materials and components used in auto production under FTZ procedures until the finished vehicles are entered for domestic consumption, at which time the finished auto duty rate (2.5%) would be applied to the foreign-origin component parts and materials. For the individual interior components withdrawn from the proposed subzone for Customs entry, Faurecia IS would be able to choose the finished auto part duty rate (2.5%) for the foreign-origin items noted above. The application indicates that the savings from FTZ procedures would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-4100W, 1401 Constitution Ave., NW, Washington, DC 20230.

The closing period for their receipt is [December 30, 2002]. Rebuttal comments in response to material submitted during the foregoing period may be submitted during the subsequent 15-day period [to January 13, 2003].

A copy of the application will be available for public inspection at the Office of the Foreign-Trade Zones Board's Executive Secretary at address No.1 listed above and at the Office of the Port Director, U.S. Customs Service, 150-A West Phillips Road, Greer, SC 29650.

Dated: October 18, 2002.
Dennis Puccinelli,
Executive Secretary.

[FR Doc. 02-27632 Filed 10-29-02; 8:45 am]

BILLING CODE 3510-DS-P